DEPARTMENT OF HOMELAND SECURITY

Coast Guard

33 CFR Part 117

[Docket No. USCG-2017-1038]

Drawbridge Operation Regulation; Rigolets Pass, Slidell, LA

AGENCY: Coast Guard, DHS.

ACTION: Notice of deviation from drawbridge regulation.

SUMMARY: The Coast Guard has issued a temporary deviation from the operating schedule that governs the CSX Railroad Bridge across the Rigolets Pass, mile 0.0, St. Tammany Parish, Louisiana. This deviation is necessary to perform maintenance for the continued safe operation of the bridge. This deviation allows for the bridge to remain in the closed-to-navigation position on December 12, 2017, through December 15, 2017. It further requires a one-hour advance notice for openings to facilitate passage of vessel traffic from 7 a.m. to 5 p.m. on certain dates from December 18, 2017 through January 12, 2018.

DATES: This deviation is effective from 4 a.m. on December 12, 2017, through 5 p.m. on January 12, 2018.

ADDRESSES: The docket for this deviation, [USCG-2017-1038] is available at http://www.regulations.gov. Type the docket number in the “SEARCH” box and click “SEARCH.” Click on Open Docket Folder on the line associated with this deviation.

FOR FURTHER INFORMATION CONTACT: If you have questions on this temporary deviation, call or email Giselle T. MacDonald, Bridge Administration Branch, Coast Guard, telephone (504) 671-2128, email Giselle.T.MacDonald@uscg.mil.

SUPPLEMENTARY INFORMATION: The CSX Transportation requested a temporary deviation from the operating schedule of the CSX Railroad Swing Bridge across Rigolets Pass, mile 0.0, near Slidell, St. Tammany Parish, Louisiana. This deviation is necessary to replace the center pivot bearing and the wedge machinery on the south center and southwest end of the swing span.

For the purposes of this deviation, the bridge will be allowed to remain in the closed-to-navigation position from 4 a.m. on Tuesday, December 12, 2017, through 4 a.m. on Friday, December 15, 2017, and a one-hour advance notice for openings to facilitate passage of vessel traffic from 7 a.m. to 5 p.m., each day, on December 18, 2017, through December 22, 2017, and from January 2, 2018 through January 12, 2018. At all other times the bridge will operate in accordance with 33 CFR 117.5.

The vertical clearance of the bridge is 14.5 feet above mean low water (MLW), elevation 11.9 feet above mean high water (MHW) in the closed-to-navigation position. Navigation on the waterway consists of tugs with tows, commercial fishing vessels and some recreational crafts.

For the duration of the repair work, vessels will not be allowed to pass through the bridge in the closed-to-navigation position and will not be able to open for emergencies. The alternate route for vessels to pass is the Pearl River. The Coast Guard will also inform the users of the waterways through our Local and Broadcast Notices to Mariners of the change in operating schedule for the bridge so that vessel operators can arrange their transits to minimize any impact caused by the temporary deviation.

In accordance with 33 CFR 117.35, the drawbridge must return to its regular operating schedule immediately at the end of the effective period of this temporary deviation. This deviation from the operating regulations is authorized under 33 CFR 117.35.

Dated: November 29, 2017.
Douglas A. Blakemore,
Bridge Administrator, Eighth Coast Guard District.

[FR Doc. 2017-26094 Filed 12-4-17; 8:45 am]

BILLING CODE 9110-04-P